DEPARTMENT OF THE INTERIOR

National Park Service

[N6877; NPS-WASO-NAGPRA-NPS0041858; PPWOCRADN0-PCU00RP14.R50000]

Notice of Inventory Completion: University of Pennsylvania Museum of Archaeology and Anthropology, Philadelphia, PA

AGENCY: National Park Service, Interior.

ACTION: Notice.

SUMMARY: In accordance with the Native American Graves Protection and Repatriation Act (NAGPRA), the University of Pennsylvania Museum of Archaeology and Anthropology (Penn Museum) has completed an inventory of human remains and has determined that there is a cultural affiliation between the human remains and Indian Tribes or Native Hawaiian organizations in this notice.

DATES: Repatriation of the human remains in this notice may occur on or after February 17, 2026.

ADDRESSES: Send written requests for repatriation of the human remains in this notice to Dr. Christopher Woods, Williams Director, University of Pennsylvania Museum of Archaeology and Anthropology, 3260 South Street, Philadelphia, PA 19104-6324, email director@pennmuseum.org.

SUPPLEMENTARY INFORMATION: This notice is published as part of the National Park Service's administrative responsibilities under NAGPRA. The determinations in this notice are the sole responsibility of the Penn Museum, and additional information on the determinations in this notice, including the results of consultation, can be found in its inventory or related records. The National Park Service is not responsible for the determinations in this notice.

Abstract of Information Available

Human remains representing, at least, four individuals have been identified. No associated funerary objects are present.

One individual (PM# 97-606-441) is identified as an adult male and is represented by a cranium and mandible. Published information and museum records identify this individual as Muscogee and a “Creek Warrior of Alabama.” At an unknown date, before 1839, the human remains were obtained by Dr. Joseph Pancoast. Pancoast most likely obtained the remains from an unknown third party since he could not be placed in Alabama during the 1820s or 1830s. By 1839, the remains were sent to Dr. Samuel G. Morton and stored at the Academy of Natural Sciences of Philadelphia (ANSP) (now the Academy of Natural Sciences of Drexel University).

One individual (PM# 97-606-579) is identified as an adult male and is represented by a cranium. Published information and museum records identify this individual as “Athlaha-Ficksa, a Muscogee, or Creek Chief” who died in Mobile, Alabama, in 1837 and whose remains were obtained by Dr. Henry S. Rennolds. Dr. Rennolds was commissioned as an Assistant Surgeon of the United States Navy and was stationed at the Naval Hospital in Pensacola at the time. In 1837, Rennolds transferred the human remains to Dr. Morton, and they were stored at the ANSP.

One individual (PM# 97-606-751) is identified as an adult female and is represented by a cranium and mandible. Published information and museum records identify this person as a “Creek woman [from] Georgia.” By 1840, the remains were obtained by Dr. Joseph Walker. Published information indicates that this Creek individual was from Georgia. Available museum documents, archival records, and published information do not reveal the specific circumstances surrounding Walker's collection of the human remains. Walker likely obtained the human remains sometime between 1838 and 1840 while serving in the U.S. Army as U.S. Assistant Army Surgeon assigned to Fort Leavenworth in the Missouri Territory from 1839-1841, before he was transferred to Florida. By 1840, Walker transferred the human remains to Dr. Morton, and they were stored at the ANSP.

One individual (PM# 97-606-1454) is identified as an adult female and is represented by a cranium. Published information and museum records identify this individual as Creek and indicate they were removed from an unidentified location in western Arkansas by Dr. Samuel W. Woodhouse. From 1849 to 1850, Woodhouse participated in the U.S. Army Corps of Topographical Engineers survey of the Creek-Cherokee boundary as a physician and naturalist at the recommendation of Dr. Samuel G. Morton of the ANSP. In 1849, the survey party left Washington, DC, for Fort Gibson, traveling to Ohio and through Arkansas between May 1 and June 6. It is possible that Woodhouse obtained the human remains sometime between May 29th and June 5th while traveling through Arkansas by boat on the Arkansas River to Fort Smith. It is also possible that Woodhouse obtained the human remains during the survey expedition that mapped the Creek boundary (in what is today Oklahoma) between June and October 1849. In 1850, Woodhouse transferred the human remains to Morton, and they were stored at the ANSP.

Dr. Morton died in 1851, and in 1853, the ANSP purchased Morton's collection, including the four human remains discussed in this report, from Morton's estate. In 1966, Morton's collection was loaned to the Penn Museum, and in 1997, Morton's collection, including these human remains, was formally gifted to the Penn Museum. There is no known presence of any potentially hazardous substances.

Cultural Affiliation

Based on the information available and the results of consultation, cultural affiliation is clearly identified by the information available about the human remains described in this notice.

Determinations

The Penn Museum has determined that:

• The human remains described in this notice represent the physical remains of four individuals of Native American ancestry.

• There is a connection between the human remains described in this notice and the Poarch Band of Creek Indians and The Muscogee (Creek) Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after February 17, 2026. If competing requests for repatriation are received, the Penn Museum must determine the most appropriate requestor prior to repatriation. Requests for joint repatriation of the human remains are considered a single request and not competing requests. The Penn Museum is responsible for sending a copy of this notice to the Indian Tribes and Native Hawaiian organizations identified in this notice.

Authority: Native American Graves Protection and Repatriation Act, 25 U.S.C. 3003, and the implementing regulations, 43 CFR 10.10.

Dated: January 9, 2026.
Melanie O'Brien,
Manager, National NAGPRA Program.

[FR Doc. 2026-00859 Filed 1-15-26; 8:45 am]

BILLING CODE 4312-52-P